DEPARTMENT OF TRANSPORTATION

Office of the Secretary of Transportation

14 CFR Chapters I, II, III

23 CFR Chapters I, II, III

46 CFR Chapter II

48 CFR Chapter 12

49 CFR Chapters I, II, III and V, VI, VII, VIII, X, XI

[Docket No. DOT-OST-2011-0025]

Notice of Retrospective Review of DOT Existing Regulations

AGENCY: Office of the Secretary of Transportation (OST), DOT.

ACTION: Notice of public meeting and tentative agenda; opportunities for public participation in review.

SUMMARY: On February 16, 2011, Department of Transportation (DOT) published a notice of regulatory review of existing DOT regulations. This review is in accordance with Executive Order 13563, “Improving Regulation and Regulatory Review.” As part of the notice of review, DOT announced it will hold a public meeting to discuss and consider the public's comments. This notice provides information on how to participate in this meeting and opportunities for enhanced public participation in the review and the public meeting. Please note that the deadline for registering to speak at the public meeting has been extended to March 7, 2011.

DATES:

Deadline to register to attend hearing in person/watch Web stream/listen by phone—March 7, 2011.

Deadline to register to speak in person/by phone at the meeting—March 7, 2011.

Agenda released on http://regs.dot.gov—March 9, 2011.

Web streaming/call-in info distributed to registrants—March 10, 2011.

Deadline to submit any digital presentation materials—March 10, 2011.

Public Meeting—March 14, 2011—9:30 a.m.-4:30 p.m.

ADDRESSES: Public Meeting Location: The public meeting will be held in the DOT Conference Center's Media Center, located on the ground floor of 1200 New Jersey Avenue, SE., Washington, DC 20590.

DOT Regulatory Review IdeaScale Web site: http://dotregreview.ideascale.com/.

FOR FURTHER INFORMATION CONTACT: Jennifer Abdul-Wali, Office of Regulation and Enforcement, Department of Transportation, (202) 366-6322; e-mail: jennifer.abdulwali@dot.gov.

SUPPLEMENTARY INFORMATION:

Background

On January 18, 2011, President Obama issued Executive Order 13563, which outlined a plan to improve regulation and regulatory review (76 FR 3821, January 31, 2011). Executive Order 13563 reaffirms and builds upon governing principles of contemporary regulatory review, including Executive Order 12866, “Regulatory Planning and Review” (58 FR 51735, October 4, 1993), by requiring Federal agencies to design cost-effective, evidence-based regulations that are compatible with economic growth, job creation, and competitiveness. The President's plan recognizes that these principles should not only guide the Federal government's approach to new regulation, but to existing ones as well. To that end, Executive Order 13563 requires agencies to review existing significant rules to determine if they are outmoded, ineffective, insufficient, or excessively burdensome.

On February 16, 2011, DOT published a notice of regulatory review (76 FR 8940) that invited public comment on how to effectively implement Executive Order 13563 and set forth a number of issues and questions. Our notice stated that we would hold a public meeting on March 14, 2011. The following section provides the procedures for participating in the meeting and our IdeaScale Web site that can also be used to submit comments to DOT.

Public Meeting Procedures

1. As stated in our February 16 notice, those who wish to make presentations at the meeting should submit initial comments with sufficient details with their registration to enable DOT to set an agenda and ensure that the appropriate officials are present for the discussions. We hope to be able to accommodate everyone who would like to speak at the meeting, but if there are more interested participants than time available, we will limit participants in order of date and time of registration. When registering to speak, please also estimate the amount of time that you would like to use for your presentation; final times will be allotted to participants based on the time available and the issues raised in their initial comments. Any person wishing to present an oral statement should notify Jennifer Abdul-Wali at the address above by March 7, 2011; any digital presentation materials for the meeting should be submitted to her by March 10, 2011. If available, time will be given for those people attending the meeting in person to speak, even if they had not previously registered to speak.

2. Due to security requirements, all public attendees must register to ensure their access to the building. To register, contact Jennifer Abdul-Wali. Foreign National registrants must provide your full name, title, country of citizenship, date of birth, passport number, and passport expiration date when registering. Because seating space is limited, we may have to limit attendees in order of date and time of registration.

3. Attendees are encouraged to arrive early for processing through security. All participants and attendees must enter through the New Jersey Avenue entrance (West Building—at the corner of New Jersey Avenue and M Street, SE.). Photo identification is required and Foreign National attendees must bring their passports with them. Participants or attendees who have Federal government identification will still need to register to attend. To facilitate security screening, all participants and attendees are encouraged to limit the bags and other items (laptops, cameras, etc.) they bring into the building. Anyone exiting the building for any reason will be required to re-enter through the security checkpoint at the New Jersey Avenue entrance.

4. DOT does not offer visitor parking; we suggest that attendees consider using alternative means of transportation to the building. DOT Headquarters is served by Metrorail (Navy Yard station), Metrobus, DC Circulator, and taxi service. There are a number of private parking lots near the DOT building, but the DOT cannot guarantee the availability of parking spaces.

5. For information on facilities or services for persons with disabilities, or to request special assistance at the meeting, contact Ms. Abdul-Wali as soon as possible.

6. For those unable to attend the public meeting in person, it will be broadcast via Web streaming (with captioning) and over a listen-only phone line. Registrants will be given the Web URL or phone number on March 10, 2011. Because the number of people who can participate in Web streaming and by phone is limited, we will provide access in order of date and time of registration.

7. We will post an Agenda for the public meeting at http://regs.dot.gov by March 9, 2011.

8. DOT's General Counsel will preside over the public meeting. Senior officials of DOT's operating administrations also will attend this meeting as part of a panel with the General Counsel to receive comments from the public. During the hearing, we may ask questions that will clarify statements or gather more information or data to help us understand the problems or issues raised by commenters.

9. The meeting is designed to solicit public views and gather additional information for our regulatory review. Therefore, the meeting will be conducted in an informal and non-adversarial manner. In developing prepared remarks, participants should leave time during their remarks for questions and discussion by the panel.

10. We plan to make a record of the meeting available to the public; information about how to access the record will be placed in the docket and posted on http://regs.dot.gov.

DOT IdeaScale Web Site

In order to provide the public with alternative means of providing feedback to DOT in ways that may better suit their needs, we have created a Web site using IdeaScale that will allow submissions to DOT in a less formal manner. This Web site will provide members of the public an opportunity to submit their ideas about our regulatory review, categorized by the DOT Operating Administration that administers the regulation. Participants in this site may discuss one another's ideas and agree/disagree with others. This Web site may be particularly useful for individuals and small entities (including State, local, and Tribal governments) who prefer a less formal method of submitting ideas to DOT. It may also assist participants in refining their suggestions and gathering additional information or data to support those suggestions.

To ensure that ideas are most useful in informing our deliberation and decision process, you should include the citation to the regulation on which you are commenting (e.g. 49 CFR 1.69), a description of any concerns regarding the regulation (e.g. it is duplicative, too costly, etc.), and any supporting information (e.g., the citation to a duplicative regulation or actual cost or benefit data) that would assist DOT in making a decision. Please also include in your comment whether you found this Web site useful for your purposes, so that we can best plan how to deploy DOT's scarce resources to most effectively reach the public in the future. To go directly to the IdeaScale Web site use the following link: http://dotregreview.ideascale.com/.

Follow-Up Action by DOT

The comments received during our review will provide meaningful and significant information for DOT senior officials, including those in the Office of the Secretary and each of DOT's operating administrations. As soon as possible after the public meeting and the close of the comment period, taking account of the number of comments received and the complexity of issues raised, DOT will publish a report providing at least a brief response to the comments we receive, including a description of any further action we intend to take.

Privacy Act Statement

Anyone is able to search all comments entered into any of our dockets by the name of the individual submitting the comment (or signing the comment, if submitted on behalf of an association, business, labor union, etc.). You may review DOT's complete Privacy Act Statement in the Federal Register published on April 11, 2000 (65 FR 19476, 04/11/2011) or at http://www.dot.gov/privacy.html.

Authority: 5 U.S.C. 610; E.O. 13563, 76 FR 3821, Jan. 21 2011; E.O. 12866, 58 FR 51735, Oct. 4, 1993.)

Issued on February 25, 2011, in Washington, DC.
Robert S. Rivkin,
General Counsel.

[FR Doc. 2011-4812 Filed 3-2-11; 8:45 am]

BILLING CODE 4910-9X-P